DEPARTMENT OF THE INTERIOR

Bureau of Land Management

[CACA-051552, LLCAD0700 L51010000 FX0000 LVRWB10B3980]

Notice of Availability of a Final Environmental Impact Statement and Final Environmental Impact Report for the Pattern Energy Group's Ocotillo Express Wind Energy Project and Proposed California Desert Conservation Area Land Use Plan Amendment, Imperial County, CA

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Proposed California Desert Conservation Area (CDCA) Plan Amendment (PA)/Final Environmental Impact Statement (EIS) and Final Environmental Impact Report (EIR) for the Ocotillo Express Wind Energy Facility (OWEF) and by this notice is announcing the availability of the Proposed PA and Final EIS/EIR.

DATES: BLM planning regulations state that any person who meets the conditions as described in the regulations may protest the BLM's Proposed PA. A person who meets the conditions and files a protest must file the protest within 30 days of the date that the Environmental Protection Agency (EPA) publishes its notice in the Federal Register. The Record of Decision (ROD) on the OWEF and PA will be issued no sooner than 30 days after the release of the Final EIS.

ADDRESSES: Copies of the Proposed PA and Final EIS/EIR have been sent to affected Federal, state, and local government agencies and to other stakeholders. Copies of the Proposed PA and Final EIS/EIR are also available for public inspection at the BLM El Centro Field Office, 1661 S. 4th Street, El Centro, California 92243 and the BLM California Desert District Office, 22835 Calle San Juan de Los Lagos, Moreno Valley, California 92553. Interested persons may also review the Proposed PA and Final EIS/EIR at the following Web site: http://www.ca.blm.gov/elcentro.

All protests of the BLM's Proposed PA must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Cedric Perry, BLM Project Manager, telephone (951) 697-5388; address 22835 Calle San Juan De Los Lagos, Moreno Valley, CA 92553; email Cedric_Perry@ca.blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: Ocotillo Express, LLC (Applicant), a subsidiary of Pattern Energy Group, LP, has submitted an application for a right-of-way (ROW) authorization to construct, operate, maintain, and decommission an approximately 12,436 acre, up to 456 megawatt (MW), wind energy project including up to 155 wind turbine generators; a substation; administration, operations and maintenance facilities; transmission lines; and temporary construction lay down areas. The BLM's purpose and need for the OWEF is to respond to the Applicant's application under Title V of the Federal Lands Policy and Management Act of 1976 (FLPMA) for a ROW grant to construct, operate, maintain, and decommission a wind energy facility on public lands in compliance with FLPMA, BLM ROW regulations, and other applicable Federal laws. The BLM will decide whether to grant, grant with modification, or deny a ROW to the Applicant for the proposed OWEF. In connection with its processing of the ROW application for the OWEF, the BLM will also amend the CDCA Plan as applicable, depending on its decision on the ROW grant. The CDCA Plan, while recognizing the potential compatibility of wind energy generation facilities with other uses on public lands, requires that all sites proposed for power generation or transmission not identified in the CDCA Plan be considered through the plan amendment process. Therefore, in connection with its review of the OWEF, the BLM is also proposing to amend the CDCA Plan to designate the project area as either available or unavailable for wind energy development, as appropriate.

In addition to the proposed action and a no action alternative, the BLM analyzed a 137-turbine alternative, a 105-turbine alternative, and “no project” alternatives that reject the ROW application for the OWEF but amend the CDCA Plan to make the project area either:

(1) Available for future wind energy generation projects; or

(2) Unavailable for future wind energy generation projects.

Based on information developed during the government-to-government and National Historic Preservation Act Section 106 consultations for the OWEF, the Applicant proposed that BLM consider a new project configuration that eliminates 43 of the 155 turbines proposed under the Proposed Action (the “Refined Project”). Under the Refined Project configuration, only 112 wind turbines generators would be approved and installed. Those 112 turbines would be located on a subset of the 155 turbines sites evaluated under the Proposed Action in the Draft EIS/EIR. The Refined Project is identified as the preferred alternative in the Final EIS/EIR. The BLM has determined that it is within the range of alternatives analyzed in the Draft EIS/EIR.

The Final EIS/EIR evaluates the potential impacts of the proposed OWEF and alternatives on air quality, biological resources, cultural resources, water resources, geological resources and hazards, land use, noise, paleontological resources, public health, socioeconomics, soils, traffic and transportation, visual resources, wilderness characteristics, and other resources.

A Notice of Intent to Prepare an EIS/EIR for the OWEF project was published in the Federal Register on December 13, 2010 [75 FR 77654]. The BLM held two public scoping meetings in El Centro and Ocotillo, California, on January 5 and 6, 2011, respectively. The formal scoping period ended on February 4, 2011. A Notice of Availability of the Draft EIS/EIR was published in the Federal Register on July 8, 2011, and the BLM along with Imperial County held two public meetings on the Draft EIS/EIR on August 24, 2011, in El Centro, and on August 25, 2011, in Ocotillo.

Comments on the Draft PA and EIS/EIR received from the public and internal BLM review were considered and incorporated as appropriate into the Proposed PA and Final EIS/EIR. Public comments resulted in the addition of clarifying text and modification of the preferred alternative but did not significantly change the analysis.

Instructions for filing a protest with the Director of the BLM regarding the Proposed PA may be found in the “Dear Reader” letter of the Proposed PA and Final EIS/EIR and at 43 CFR 1610.5-2. Emailed and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at (202) 912-7212, and emails to Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Authority: 40 CFR 1506.6 and 1506.10; 43 CFR 1610.2 and 1610.5

Thomas Pogacnik,
Deputy State Director, California.

[FR Doc. 2012-5703 Filed 3-8-12; 8:45 am]

BILLING CODE 4310-40-P